COUNCIL ON ENVIRONMENTAL QUALITY

Revision to Guidance, “Federal Greenhouse Gas Accounting and Reporting”

AGENCY: Council On Environmental Quality.

ACTION: Notice of Availability, Draft Revised Guidance, “Federal Greenhouse Gas Accounting and Reporting”.

SUMMARY: On October 5, 2009, President Obama signed Executive Order (EO) 13514, “Federal Leadership in Environmental, Energy, and Economic Performance” (74 FR 52117), in order to establish an integrated strategy toward sustainability in the Federal government and to make reduction of greenhouse gas (GHG) emissions a priority for Federal agencies. Among other provisions, EO 13514 requires agencies to measure, report, and reduce their GHG emissions.

On October 6, 2010, The White House Council on Environmental Quality (CEQ) released Guidance on Federal Greenhouse Gas Accounting and Reporting that establishes Government-wide requirements for measuring and reporting greenhouse gas (GHG) emissions associated with Federal agency operations.

On July 18, 2011, The Department of Energy's (DOE's) Federal Energy Management Program (FEMP), Department of Defense (DoD), and Environmental Protection Agency (EPA) provided recommendations for revision to the Federal GHG reporting and accounting procedures. CEQ provides this draft revision of the guidance for public review and comment to ensure accessibility of Federal accounting and reporting requirements and to enhance the quality of public involvement in governmental decisions relating to the environment.

DATES: Comments should be submitted on or before April 11, 2012. Comments received after that date may not be considered.

ADDRESSES: The Draft Revised Guidance, “Federal Greenhouse Gas Accounting and Reporting” document is available at http://www.whitehouse.gov/administration/eop/ceq/sustainability/fed-ghg. Comments on the Draft Revised Guidance should be submitted electronically to GHG.guidance@ceq.eop.gov, or in writing to The Council on Environmental Quality, Attn: Keith Dennis, 722 Jackson Place NW., Washington, DC 20503.

FOR FURTHER INFORMATION CONTACT: Keith Dennis, Senior Program Manager at (202) 456-5226.

SUPPLEMENTARY INFORMATION: The Chair of the Council on Environmental Quality is required, under Section 5(a) of EO 13514, to issue guidance for greenhouse gas accounting and reporting.

Federal agencies are required, under Section 2(c) of EO 13514, to establish and report to the CEQ Chair and Office of Management and Budget (OMB) Director a comprehensive inventory of absolute GHG emissions, including scope 1, scope 2, and specified scope 3 emissions annually for each fiscal year, starting in 2010.

Section 9(c) of EO 13514 directs DOE's FEMP, in coordination with EPA, DoD, General Services Administration (GSA), Department of the Interior (DOI), Department of Commerce (DOC), and other agencies, as appropriate, to develop and provide recommendations for revised Federal GHG reporting and accounting procedures. On July 18, 2011, the agencies submitted final recommendations for revisions to Federal GHG reporting and accounting procedures to the CEQ Chair.

The Draft Revised Guidance, “Federal Greenhouse Gas Accounting and Reporting” will, when finalized, establish updated government-wide requirements for Federal agencies in calculating and reporting GHG emissions associated with agency operations. CEQ is seeking public comment on this draft guidance for 30 days. The draft guidance document is now available at the Council on Environmental Quality Web site at http://www.whitehouse.gov/administration/eop/ceq/sustainability/fed-ghg.

Public comments are requested on or before April 11, 2012. Comments received after that date may not be considered.

CEQ recognizes that this guidance is vital to the Federal government's ability to achieve a clean energy economy that will increase our nation's prosperity, promote energy security, protect the interests of taxpayers, and safeguard the health of our environment. CEQ further recognizes that in order to lead by example, the Federal government must be transparent in its processes for accounting and reporting of GHG emissions.

The Federal government seeks to continually improve both the quality of data and methods necessary for calculating GHG emissions. In accordance with EO 13514, additional requirements, methodologies and procedures will be included in future revisions to this document and supporting documents to improve the Federal Government's overall ability to accurately account for and report GHG emissions.

February 27, 2012.
Nancy Sutley,
Chair, Council on Environmental Quality.

[FR Doc. 2012-5931 Filed 3-9-12; 8:45 am]

BILLING CODE 3225-F2-P